DEPARTMENT OF COMMERCE

International Trade Administration

[A-570-864]

Pure Magnesium in Granular Form From the People's Republic of China: Rescission of Changed Circumstances Review

AGENCY: Import Administration, International Trade Administration, Department of Commerce.

SUMMARY: On August 18, 2010, the Department of Commerce (“Department”) initiated a changed circumstances review (“CCR”) of the antidumping duty order ¹ on pure magnesium in granular form from the People's Republic of China (“PRC”) to determine whether China Minmetals Non-ferrous Metals Co., Ltd. (“CMN”) is the successor-in-interest to Minmetals Precious and Rare Minerals Import and Export/China National Nonferrous Metals Industry Trading Group Corp. (“Minmetals/CNNMIT”).² On September 21, 2010, CMN withdrew its request for a changed circumstances review. The Department is now rescinding this CCR.

¹ See Antidumping Duty Order: Pure Magnesium in Granular Form From the People's Republic of China, 66 FR 57936 (November 19, 2001) (“Pure Magnesium in Granular Form Order”).

² See Pure Magnesium In Granular Form from the People's Republic of China: Initiation of Changed Circumstances Review, 75 FR 51002, (August 18, 2010) (“Initiation of CCR”).

DATES: Effective Date: January 10, 2011.

FOR FURTHER INFORMATION CONTACT: Eve Wang, AD/CVD Operations, Office 8, Import Administration, International Trade Administration, U.S. Department of Commerce, 1401 Constitution Avenue, NW, Washington, DC 20230; telephone: 202-482-6231.

SUPPLEMENTARY INFORMATION:

Background

On November 19, 2001, the Department published in the Federal Register an antidumping duty order on pure magnesium in granular form from the PRC.³ On June 28, 2010, CMN requested that the Department conduct an expedited CCR of the antidumping duty order on pure magnesium in granular form from the PRC to determine whether CMN is the successor-in-interest to Minmetals/CNNMIT. On August 18, 2010, the Department initiated a CCR but did not expedite the review, as requested by CMN, because CMN did not provide complete supporting documentation or conclusive evidence for the Department to evaluate the relevant factors.⁴

³ See Pure Magnesium in Granular Form Order, 66 FR 57936.

⁴ See Initiation of CCR, 75 FR at 51003.

On August 23, 2010, we requested further information and documentation from CMN to substantiate its claims to be the successor-in-interest to Minmetals/CNNMIT. On September 1, 2010, CMN requested an extension of time to submit CMN's response. On September 2, 2010, the Department granted CMN's request. On September 21, 2010, 34 days after the publication of the initiation of the CCR, CMN withdrew its request for the CCR. No other party has commented on this review or the withdrawal request.

Rescission of Changed Circumstances Review

The Department's regulations do not address withdrawal of requests for CCRs. Under 19 CFR 351.213(d), however, the Department will rescind an administrative review in whole “if a party that requested a review withdraws the request within 90 days of the date of the publication of notice of initiation of the requested review.” Notwithstanding that this provision pertains to administrative reviews under section 751(a) of the Tariff Act of 1930, as amended (“the Act”), the provision provides useful guidance for purposes of determining an appropriate time frame for requesters to withdraw their requests for changed circumstance reviews.⁵ Thus, we find that CMN's withdrawal of its request for the CCR is timely. Further, we have not expended significant resources in conducting this review, and no party has objected to the request for rescission. Therefore, we are rescinding the CCR requested by CMN. U.S. Customs and Border Protection will continue to suspend entries of subject merchandise at the appropriate cash deposit rate for all entries of pure magnesium in granular form from the PRC.

⁵ See, e.g., Certain Frozen Warmwater Shrimp From India: Notice of Rescission of Antidumping Duty Changed Circumstances Review, 75 FR 51756 (August 23, 2010).

This notice also serves as a reminder to parties subject to administrative protective order (“APO”) of their responsibility concerning the disposition of proprietary information disclosed under the APO in accordance with 19 CFR 351.305(a)(3). Timely written notification of the return or destruction of APO materials or conversion to judicial protective order is hereby requested. Failure to comply with regulations and the terms of an APO is a sanctionable violation.

This notice is issued and published in accordance with sections 751(b) and 777(i)(1) of the Act.

Dated: January 4, 2011.
Christian Marsh,
Deputy Assistant Secretary for Antidumping and Countervailing Duty Operations.

[FR Doc. 2011-276 Filed 1-7-11; 8:45 am]

BILLING CODE 3510-DS-P